DEPARTMENT OF JUSTICE

Notice of Lodging Proposed Consent Decree

In accordance with Department Policy, 28 CFR 50.7, and with section 122(d) of the Comprehensive Environmental Response, Compensation and Liability Act (“CERCLA”), 42 U.S.C. 9622(d), notice is hereby given that a proposed amendment to a partial consent decree in United States v. Niagara Frontier Transportation Auth., Case No. 96-CV-0219C(Sc) (W.D.N.Y.) was lodged with the United States District Court for the Western District of New York on October 2, 2002. This proposed amendment to a consent decree will resolve contribution claims against the United States pursuant to section 113 of CERCLA for payment of response costs incurred at or in connection with the release or threatened release of hazardous substances at the Bern Metal Superfund Site and the Universal Iron and Metal Superfund Site in Buffalo, New York.

The proposed amendment to the consent decree requires the United States to pay $75,000 towards the total response costs.

The Department of Justice will accept written comments relating to this proposed amendment to a consent decree for thirty (30) days from the date of publication of this notice. Please address comments to Eileen T. McDonough, Environmental Defense Section, U.S. Department of Justice, Post Office Box 23986, L'Enfant Plaza Station, Washington, DC 20026-3986, and refer to this case name and civil action number.

The proposed amendment to the consent decree may be examined at the Clerk's Office, United States District Court for the Western District of New York. In addition, the proposed amendment to the consent decree may be viewed on the World Wide Web at http://www.usdoj.gov/enrd/enrd-home.html.

Scott Schachter,
Environmental Defense Section.

[FR Doc. 02-26510 Filed 10-17-02; 8:45 am]

BILLING CODE 4410-15-M